PACIFIC NORTHWEST ELECTRIC POWER AND CONSERVATION PLANNING COUNCIL

Mainstem Amendments to Columbia River Basin Fish and Wildlife Program

AGENCY: Pacific Northwest Electric Power and Conservation Planning Council (Northwest Power and Conservation Council, Council).

ACTION: Notice of final action adopting the 2003 Mainstem Amendments to the Council's Columbia River Basin Fish and Wildlife Program.

SUMMARY: Pursuant to Section 4(h) of the Pacific Northwest Electric Power Planning and Conservation Act of 1980 (16 U.S.C. 839 et seq.), the Council has amended its 2000 Columbia River Basin Fish and Wildlife Program by adding what are called the 2003 Mainstem Amendments.

On March 14, 2001, the Council requested that state and federal fish and wildlife agencies, Indian tribes and others submit recommendations for amendments to the Council's Fish and Wildlife Program concerning the mainstem Columbia and Snake rivers. A memorandum accompanying the request for recommendations outlined certain points to consider in developing mainstem amendment recommendations. Council Document No. 2001-04. By the June 15, 2001, deadline for submitting mainstem amendment recommendations, the Council received nearly 1,000 pages of recommendations and supporting information from 22 entities and individuals. As required by Section 4(h)(4) of the Northwest Power Act, the Council released the recommendations to the public for an opportunity for review and comment, until October 2001. Council Document No. 2001-16 (http://www.nwcouncil.org/library/recommend/mainstem/Default.htm).

In October 2002, the Council released for public review and comment a draft of proposed mainstem amendments to the fish and wildlife program, and at the same time invited further comment on the mainstem amendment recommendations originally received. The Council held a number of public hearings in the four states of the Council (Washington, Oregon, Montana and Idaho) and received extensive written comments on the draft amendments and the recommendations. Written comments on the draft mainstem amendments and recommendations are posted on the Council's Web site, at http://www.nwcouncil.org/fw/program/mainstem/2002-16Comments/default.asp.

After reviewing the recommendations and the comments on the draft mainstem amendments, the Council revised the draft and adopted substantive mainstem amendments to the program in April 2003. In July 2003, the Council completed this process of amending the fish and wildlife program by adopting findings on the recommendations for mainstem amendments as part of the program (Appendix B to the 2003 Mainstem Amendments), as well as a final analysis of the relationship of the mainstem amendments to the adequacy, efficiency, economy and reliability of the region's power supply (Appendix A to the 2003 Mainstem Amendments).

SUPPLEMENTARY INFORMATION: The mainstem amendments are the Council's second step in what will eventually be a comprehensive revision of its Columbia River Basin Fish and Wildlife program. In the first phase, which resulted in the 2000 Fish and Wildlife Program, the Council reorganized the program around a comprehensive framework of scientific and policy principles. The fundamental elements of the revised program are the vision, which describes what the program is trying to accomplish with regard to fish and wildlife and other desired benefits from the river; basinwide biological objectives, which describe in general the fish and wildlife population and habitat characteristics needed to achieve the vision; implementation strategies, which will guide or describe the actions needed to achieve the desired ecological conditions; and a scientific foundation, which links these elements and explains why the Council believes certain kinds of actions should result in desired habitat conditions and why these conditions should improve fish and wildlife populations in the desired way.

The program amendments in 2000 set the stage for the subsequent phases of the program revision process, in which the Council will adopt specific objectives and strategies for the river's mainstem and tributary subbasins, consistent with the basinwide vision, objectives and strategies in the program and its underlying scientific foundation. This notice concludes the adoption of a set of program amendments relevant to the mainstem Columbia and Snake rivers. The Council next intends to incorporate specific objectives and measures for tributaries into the program in locally developed subbasin plans for the more than 60 subbasins of the Columbia River.

The role of the mainstem amendments was described in the 2000 Fish and Wildlife Program, in the section on Basinwide Hydrosystem Strategies and in the section entitled Schedule for Further Rulemakings. The Council repeated this guidance in the March 14, 2001, request for mainstem amendment recommendations. The mainstem amendments were to contain the specific objectives and strategies (or measures) for the federal operating agencies and others to implement in the mainstem Columbia and Snake rivers to protect, mitigate and enhance fish and wildlife affected by the development and operation of hydroelectric facilities while assuring the region an adequate, efficient, economical and reliable power supply. The final amendments thus include objectives and strategies relating to, among other matters:

• The protection and enhancement of mainstem habitat, including spawning, rearing, resting and migration areas for salmon and steelhead, resident salmonids and other anadromous and resident fish;

• System water management;

• Passage spill at mainstem dams;

• Adult and juvenile passage modifications at mainstem dams;

• Juvenile fish transportation;

• Reservoir elevations, operational requirements and habitat conditions to protect resident fish and wildlife;

• Water quality conditions; and

• Research, monitoring and evaluation.

In developing the mainstem amendments, the Council asked the recommending entities to consider, among other things, the consistency of their mainstem recommendations with the basinwide provisions in the 2000 Fish and Wildlife Program, especially the role of a mainstem plan in a multispecies, habitat-based, basinwide program. The Council evaluated the mainstem recommendations and the draft and final program amendments for consistency with the program framework elements adopted in 2000, including the vision, biological objectives, habitat and hydrosystem strategies, and underlying scientific principles. The Council also evaluated the draft and final amendments for consistency with, and a basis in, the mainstem recommendations, as explained in the findings.

FOR FURTHER INFORMATION CONTACT: The final 2003 Mainstem Amendments, which include the appendices with the findings on recommendations and the power system analysis, can be found on the Council's website, at http://www.nwcouncil.org/fw/program/mainstem/Default.htm. You may also contact the Council's central office for a copy, by telephone at 1-503-222-5161 or 1-800-452-5161; by fax at 1-503-795-3370; or by e-mail at info@nwcouncil.org.

Stephen L. Crow,
Executive Director.

[FR Doc. 03-19975 Filed 8-5-03; 8:45 am]

BILLING CODE 7905-01-P